DEPARTMENT OF COMMERCE

International Trade Administration

Agency Information Collection Activities; Submission to the Office of Management and Budget (OMB) for Review and Approval; Comment Request; Inclusions to the Section 232 National Security Adjustments to Automobile Parts Imports

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 23, 2025, during a 60-day comment period. This notice allows for an additional 30 days for public comments.

Agency: International Trade Administration, Department of Commerce.

Title: Inclusions to the Section 232 National Security Adjustments to Automobile Parts Imports.

OMB Control Number: 0625-0284.

Form Number(s): None.

Type of Request: Regular submission, reinstatement without change.

Number of Respondents: 200.

Average Hours per Response: 8 hours.

Burden Hours: 1,600.

Needs and Uses: On March 26, 2025, the President issued Proclamation 10908, “Adjusting Imports of Automobiles and Automobile Parts Into the United States,” 90 FR 14705 (April 3, 2025) (Automobile Proclamation), which finds that imports of automobiles and certain automobile parts continue to threaten to impair the national security of the United States and imposes specified tariffs to adjust imports of automobiles and certain automobile parts so that such imports will not threaten to impair national security pursuant to Section 232 of the Trade Expansion Act of 1962 (“Section 232”). Section 232 authorizes the President to adjust the imports of an article and its derivatives that are being imported into the United States in such quantities or under such circumstances as to threaten to impair the national security of the United States so that such imports will not threaten to impair national security. The Automobile Proclamation imposed a 25 percent tariff on certain imports of automobiles, effective April 3, 2025, and certain imports of automobile parts, effective May 3, 2025.

The Automobile Proclamation also required the Secretary of Commerce (Secretary) to establish a process for including additional automobile parts articles within the scope of the tariffs imposed by the President in the Automobile Proclamation. In addition to inclusions made by the Secretary, the process is to provide for including additional automobile parts articles at the request of a domestic producer of an automobile or automobile parts article, or an industry association representing one or more such producers, where the request establishes that imports of additional automobile parts articles have increased in a manner that threatens to impair the national security or otherwise undermines the objectives set forth in Proclamation 9888 (84 FR 23433, May 17, 2019), the Automobile Proclamation, or in any proclamation issued under Section 232 of the Trade Expansion Act of 1962, as amended (Section 232) or any additional information submitted to the President by the Secretary pursuant to those proclamations.

Proclamation 10984 of October 17, 2025, “Adjusting Imports of Medium- and Heavy-Duty Vehicles, Medium- and Heavy-Duty Vehicle Parts, and Buses Into the United States,” (Proclamation 10984) took similar action to address the threat imports of Medium- and Heavy-Duty Vehicles (MHDV) and Medium- and Heavy-Duty Vehicle Parts (MHDVPs) pose to the national security of the United States; that Proclamation also amended the inclusion rules established by Proclamation 10925 to include MHDVs, MHDVPs, and buses.

When the Secretary receives such a request from a domestic producer or industry association, the Secretary, after consultation with the United States International Trade Commission and U.S. Customs and Border Protection, is to issue a determination regarding whether to include the articles within 60 days of receiving the request.

Affected Public: Business or other for-profit organizations.

Frequency: Quarterly.

Respondent's Obligation: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0625-0284.

Sheleen Dumas,
Departmental PRA Compliance Officer, Office of the Under Secretary for Economic Affairs, Commerce Department.

[FR Doc. 2026-04031 Filed 2-27-26; 8:45 am]

BILLING CODE 3510-DR-P